DEPARTMENT OF ENERGY

Federal Energy Regulatory Commission

[Docket Nos. EL07-97-000; QF99-95-002; QF07-129-001]

Chugach Electric Association, Inc.; Tiqun Energy, Inc.; Tiqun Energy, Inc.; Notice of Filing

September 19, 2007.

Take notice that on September 12, 2007, Chugach Electric Association, Inc. (Chugach), filed a Petition for Declaratory Order and Motion for Revocation seeking the revocation of the qualifying facility (QF) status of two QFs self-certified by Tiqun Energy, Inc. (Tiqun). The two QFs, neither of which has been built, are the Knik Arm Power Plant (KAPP), which was self-recertified by Tiqun in Docket No. QF99-95-001, and the Pioneer Energy Project, which was self-certified by Tiqun in Docket No. QF07-129-000. Chugach claims that neither the KAPP facility nor the Pioneer facility meet the criteria for QF status, and thus the Commission should issue an order revoking their QF status.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 12, 2007.

Kimberly D. Bose,
Secretary.

[FR Doc. E7-18908 Filed 9-25-07; 8:45 am]

BILLING CODE 6717-01-P